DEPARTMENT OF AGRICULTURE

Animal and Plant Health Inspection Service

[Docket No. APHIS-2008-0144]

Notice of Intent To Destroy Outdated Hog Cholera Vaccine Seed Stock

AGENCY: Animal and Plant Health Inspection Service, USDA.

ACTION: Notice.

SUMMARY: Notice is hereby given that the Animal and Plant Health Inspection Service is proposing to destroy outdated seed virus and other materials previously used to prepare hog cholera vaccine and antiserum.

DATES: We will consider all comments that we receive on or before February 4, 2009.

ADDRESSES: You may send your comments to USDA, APHIS, VS, Center for Veterinary Biologics, Policy Evaluation and Licensing, 510 South 17th Street, Suite 104, Ames, IA 50010; Attention: Ms. Chelsea J. Bare. You may also e-mail your comments to Chelsea.J.Bare@aphis.usda.gov.

FOR FURTHER INFORMATION CONTACT: Dr. Albert P. Morgan, Section Leader, Operational Support Section, Center for Veterinary Biologics, Veterinary Services, APHIS, 4700 River Road Unit 148, Riverdale, MD; phone (301) 734-8245, fax (301) 734-4314.

SUPPLEMENTARY INFORMATION: The preparation of hog cholera vaccine was banned in the United States in 1969. Concurrent with the ban on vaccine production, vaccine manufacturers and farmer cooperatives involved in vaccine production and distribution were required to surrender vaccine seed stocks and remaining product inventory to the U.S. Department of Agriculture for safekeeping. This material has remained securely stored at the National Veterinary Services Laboratories (NVSL) in Ames, IA, since that time. All of this material is now outdated, and the most recent inventory of the stored product revealed a significant deterioration of packaging and labeling that makes accurate identification of the virus stocks difficult, and raises additional concerns regarding whether such material can continue to be safely stored given the deteriorating condition of its packaging. Thus, we are advising interested parties that, unless substantial issues are raised in response to this notice, APHIS intends to destroy all remaining seed stocks and other material collected from producers/cooperators in response to the ban on hog cholera vaccine and serum production following the close of the comment period for this notice (see DATES above). The destruction of those materials will be accomplished by autoclaving and/or incineration on site at NVSL.

Done in Washington, DC, this 23rd day of December 2008.
Kevin Shea,
Acting Administrator, Animal and Plant Health Inspection Service.

[FR Doc. E8-31370 Filed 1-2-09; 8:45 am]

BILLING CODE 3410-34-P